DEPARTMENT OF THE INTERIOR

Fish and Wildlife Service

Notice of Receipt of Request to Amend Endangered Species Permit

AGENCY: Fish and Wildlife Service, Interior.

ACTION: Notice of receipt.

The following applicant requests a permit amendment to conduct certain activities with endangered species. This notice is provided pursuant to section 10(c) of the Endangered Species Act of 1973, as amended (16 U.S.C. 1531 et seq.):

Applicant: Assistant Regional Director, Ecological Services, U.S. Fish and Wildlife Service, Hadley, Massachusetts

Permit No.: TE-697823

This applicant requests to amend their current permit for take activities for all listed species in the states of Connecticut, Delaware, Maine, Maryland, Massachusetts, New Hampshire, New Jersey, New York, Pennsylvania, Rhode Island, Vermont, Virginia, West Virginia, and the District of Columbia for the purpose of scientific research and enhancement of survival of the species, to include the recently listed Gulf of Maine distinct population segment of Atlantic salmon (Salmo salar).

DATES: Written comments on this request for a permit amendment must be received on or before February 7, 2001.

ADDRESSES: Written data or comments should be submitted to the Regional Endangered Species Permits Coordinator, U.S. Fish and Wildlife Service, 300 Westgate Center Drive, Hadley, Massachusetts 01035; facsimile: 413-253-8482.

FOR FURTHER INFORMATION CONTACT: Documents and other information submitted with this request for an amendment are available for review, subject to the requirements of the Privacy Act and Freedom of Information Act, by any party who submits a written request for a copy of such documents within 20 days of the date of publication of this notice to the address above; telephone: 413-253-8628.

Dated: December 19, 2000.
Dr. Mamie A. Parker,
Acting Regional Director.

[FR Doc. 01-403 Filed 1-5-01; 8:45 am]

BILLING CODE 4310-55-M